DEPARTMENT OF THE INTERIOR

Fish and Wildlife Service

[FWS-R7-R-2015-N210; FF07RKDK00-FVRS80810700000-XXX]

Proposed Information Collection; Kodiak National Wildlife Refuge Bear Viewing Survey

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by January 4, 2016.

ADDRESSES: Send your comments on the IC to the Information Collection Clearance Officer, U.S. Fish and Wildlife Service, MS BPHC, 5275 Leesburg Pike, Falls Church, VA 22041-3803 (mail); or hope_grey@fws.gov (email). Please include “1018-Kodiak Bear Viewing” in the subject line of your comments.

FOR FURTHER INFORMATION CONTACT: To request additional information about this IC, contact Hope Grey at hope_grey@fws.gov (email) or 703-358-2482 (telephone).

SUPPLEMENTARY INFORMATION:

I. Abstract

The Kodiak National Wildlife Refuge has partnered with Utah State University to conduct a public survey of visitors to the Kodiak National Wildlife Refuge who participate in bear viewing at structured and unstructured sites. Questions will address logistical aspects of bear viewing (including the amount of money visitors are willing to spend on viewing and amenities), satisfaction with current experiences (based on number of bears, density of other visitors, length of stay, and education received), and reported changes to attitudes and behavior related to bear conservation based on visitors' experiences on the refuge. Survey results are crucial to understanding public demands for and expectations of bear viewing, so that the refuge can better facilitate bear viewing opportunities and better convey educational messages on bear management.

II. Data

OMB Control Number: 1018-XXXX.

Title: Kodiak National Wildlife Refuge Bear Viewing Survey.

Service Form Number: None.

Type of Request: Request for a new OMB Control Number.

Description of Respondents: Visitors to Kodiak National Wildlife Refuge who come for the purpose of viewing bears.

Respondent's Obligation: Voluntary.

Frequency of Collection: One time.

Activity | Number of responses | Completion time per response (minutes) | Total annual burden hours
Initial Contact | 1,800 | 2 | 60
Online Survey | 600 | 15 | 150
Totals | 2,400 |  | 210

Estimated Annual Nonhour Burden Cost: None

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: October 28, 2015.
Tina A. Campbell,
Chief, Division of Policy, Performance, and Management Programs, U.S. Fish and Wildlife Service.

[FR Doc. 2015-27874 Filed 11-2-15; 8:45 am]

BILLING CODE 4333-15-P